UNIFIED CARRIER REGISTRATION PLAN

Sunshine Act Meeting Notice; Unified Carrier Registration Plan Board of Directors Meeting

TIME AND DATE: August 13, 2020, from Noon to 3:00 p.m., Eastern time.

PLACE: This meeting will be accessible via conference call and screen sharing. Any interested person may call 877-853-5247 (US toll free), 888-788-0099 (US toll free), +1 929-205-6099 (US toll), or +1 669-900-6833 (US toll), Conference ID 996 1775 0976, to participate in the meeting.

STATUS: This meeting will be open to the public.

MATTERS TO BE CONSIDERED: The Unified Carrier Registration Plan Board of Directors (the “Board”) will continue its work in developing and implementing the Unified Carrier Registration Plan and Agreement. The subject matter of the meeting will include:

Agenda

I. Welcome and Call to Order—UCR Board Chair

The UCR Board Chair will welcome attendees, call the meeting to order, call roll for the Board, and facilitate self-introductions.

II. Verification of Meeting Notice—UCR Executive Director

The UCR Executive Director will verify publication of the meeting notice on the UCR website and distribution to the UCR contact list via email followed by subsequent publication of the notice in the Federal Register.

III. Review and Approval of Board Agenda—UCR Board Chair

For Discussion and Possible Action

Agenda will be reviewed and the Board will consider adoption.

Ground Rules

➢ Board actions taken only in designated areas on agenda

IV. Approval of Minutes of the June 9, 2020 UCR Board Meeting—UCR Board Chair

For Discussion and Possible Action

Minutes of the June 9, 2020 UCR Board meeting will be reviewed. The Board will consider action to approve.

V. Discussion of COVID-19 Impact on UCR—UCR Board Chair

The UCR Board Chair will lead a discussion on the impact of the COVID-19 pandemic on industry, state operations, and UCR collections.

VI. Report of FMCSA—FMCSA Representative

The Federal Motor Carrier Safety Administration (FMCSA) will provide a report on any relevant activity.

VII. Updates Concerning UCR Legislation—UCR Board Chair

The UCR Board Chair will call for any updates regarding UCR legislation since the last Board meeting.

VIII. Chief Legal Officer Report—UCR Chief Legal Officer

The UCR Chief Legal Officer will provide an update on the status of the March 2019 data event and the Twelve Percent Logistics litigation.

IX. Subcommittee Reports

Audit Subcommittee—UCR Audit Subcommittee Chair

A. Current Status of the 2019 State Audit Reports—UCR Audit Subcommittee Chair

For Discussion and Possible Action

The current results of the 2019 State Audit Reports will be presented to the Board. Information presented will include states performance regarding the Focused Anomaly Reviews (FARs), the MCS-150 Retreats, and the compliance registration statistics. The Board may consider taking action against those states that are not in compliance with the annual audit standards.

B. Addition of State Compliance Percentages to the State Annual Audit Criteria—UCR Audit Subcommittee Chair

For Discussion and Possible Action

The UCR Audit Subcommittee Chair will discuss the benefits of potentially adding compliance registration statistics as a third evaluation tool for the annual state audit reports presented to the Board. The Board may consider action to approve registration statistics as a third evaluation tool for state annual audits.

C. Requirement to Continue Audits for 2019 Through December 31, 2020—UCR Audit Subcommittee Chair

The UCR Audit Subcommittee Chair will remind state auditors to continue to monitor FARs and the MCS-150 audit list for newly assigned audits. New FARs and MCS-150 audits will continue to be assigned through September 30, 2020 and must be completed by December 31, 2020.

D. Update on the 2020 New Entrant and Unregistered Solicitation Campaigns—Seikosoft

Seikosoft will provide an updated report on new entrant motor carrier campaigns managed by the National Registration System (NRS), new entrant motor carrier campaigns managed by the states, unregistered motor carrier campaigns managed by the NRS, and unregistered motor carrier campaigns managed by the states.

E. Update on the Non-Universe Motor Carrier Solicitation Campaigns—Seikosoft

Seikosoft will provide an updated report on the solicitation campaign targeting motor carriers identified through roadside inspections to be operating in interstate commerce but identified in MCMIS as either intrastate or inactive.

F. Unregistered Carrier List for 2019 Potentially Containing Private Passenger and Intrastate Motor Carriers—Seikosoft/UCR Audit Subcommittee Chair

Seikosoft will provide an update on the potential for the 2019 Unregistered List to contain private passenger and intrastate motor carriers that changed their carrier status to Interstate during 2020.

G. Pending Payment Policy—UCR Audit Subcommittee Chair/DSL Transportation/Seikosoft

For Discussion and Possible Action

The UCR Audit Subcommittee Chair, DSL Transportation, and Seikosoft will lead a discussion concerning a possible modification to the current Pending Payment Policy. The Board may consider action to approve the proposed modifications to the current Pending Payment Policy.

H. Unregistered Brokers—UCR Audit Subcommittee Chair

The UCR Audit Subcommittee Chair will discuss the challenges that unregistered brokers present to UCR enforcement. The discussion will regard jurisdiction and other challenges, and may also include dialogue regarding successes and ideas for addressing broker registration enforcement.

Finance Subcommittee—UCR Finance Subcommittee Chair

A. Proposed Policy for UCR Board Fee Recommendations—UCR Depository Manager

For Discussion and Possible Action

The UCR Depository Manager will present a draft of a proposed policy regarding recommendations by the Board to the Secretary of the United States Department of Transportation regarding possible UCR fee changes that the Board may recommend from time-to-time as conditions warrant. The policy will include a general-purpose description, guidelines for interacting with the FMCSA, timelines regarding submission of fee change recommendations, and the methodology that will be used to quantify proposed fee changes. The UCR Finance Subcommittee recommends that the Board adopt the policy. The Board may take action to adopt this proposed policy pertaining to UCR board fee recommendations.

B. Proposed Amendment to Refunds Procedure—UCR Depository Manager

For Discussion and Possible Action

The UCR Depository Manager will present a draft of a proposed amendment to the UCR Refunds Procedure regarding the issuance of refunds, especially when related to refunding permitting services that register motor carriers without express consent. The UCR Finance Subcommittee recommends the Board adopt the proposed amendment. The Board may take action to adopt a proposed amendment to this UCR Refunds Procedure.

C. Certificates of Deposit—UCR Depository Manager

For Discussion and Possible Action

The UCR Depository Manager will provide a report on activities required to redeem one certificate of deposit at the Bank of North Dakota that matured on August 5, 2020 as well as discuss the need to reinvest proceeds from the matured CD. The Board may take action to adopt the recommended CD reinvestment proposal.

D. Board Insurance—UCR Depository Manager/UCR Chief Legal Officer

For Discussion and Possible Action

The UCR Depository Manager and the UCR Chief Legal Officer will provide an update on efforts to provide cybersecurity, as well as directors and officers liability insurance for the UCR Board. The Board may take action to authorize the UCR Board Chair to procure one or both of these insurance policies.

E. Review 2020 Administrative Expenses Through June 30, 2020—UCR Depository Manager

The UCR Depository Manager will present the administrative costs incurred for the period of January 1, 2020 through June 30, 2020, compared to the budget for the same time-period, and discuss all significant variances.

F. Update on Current Financial Reserve Funds—UCR Depository Manager

The UCR Depository Manager will discuss the two financial reserves authorized by the Board, compare them to current bank account balances, and address any over/under-funding of the accounts including plans to address funding differences.

Education and Training Subcommittee—UCR Education and Training Subcommittee Chair

Update on Plans to Launch Training Modules—UCR Education and Training Subcommittee Chair

The UCR Education and Training Subcommittee Chair will provide an update on plans to launch another wave of training modules.

X. Contractor Reports—UCR Executive Director

• UCR Executive Director

The UCR Executive Director will provide a report covering recent activity for the UCR Plan.

• DSL Transportation Services, Inc.

DSL will report on the latest data on state collections based on reporting from the FARs program.

• Seikosoft

Seikosoft will provide an update on recent/new activity related to the NRS.

• UCR Administrator Report (Kellen)—UCR Operations and Depository Managers

The UCR Administrator will provide its management report covering recent activity for the Depository, Operations, and Communications.

XI. Other Business—UCR Board Chair

The UCR Board Chair will call for any business, old or new, from the floor.

XII. Adjournment—UCR Board Chair

The UCR Board Chair will adjourn the meeting.

This agenda will be available no later than 5:00 p.m. Eastern time, August 5, 2020 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2020-17446 Filed 8-5-20; 4:15 pm]

BILLING CODE 4910-YL-P